DEPARTMENT OF COMMERCE

International Trade Administration

[A-580-894]

Certain Tapered Roller Bearings From the Republic of Korea: Postponement of Preliminary Determination in the Less-Than-Fair-Value Investigation

AGENCY: Enforcement and Compliance, International Trade Administration, U.S. Department of Commerce.

DATES: Applicable November 21, 2017.

FOR FURTHER INFORMATION CONTACT: Blaine Wiltse at 202-482-6345, or Manuel Rey at 202-482-5518, AD/CVD Operations, Office II, Enforcement and Compliance, International Trade Administration, U.S. Department of Commerce, 1401 Constitution Avenue NW., Washington, DC 20230.

SUPPLEMENTARY INFORMATION:

Background

On July 18, 2017, the Department of Commerce (the Department) initiated a less-than-fair value (LTFV) investigation of imports of certain tapered roller bearings from the Republic of Korea.¹ Currently, the preliminary determination is due no later than December 5, 2017.

¹ See Certain Tapered Roller Bearings from the Republic of Korea: Initiation of Less-Than-Fair-Value Investigation, 82 FR 34477 (July 25, 2017).

Postponement of the Preliminary Determination

Section 733(b)(1)(A) of the Tariff Act of 1930, as amended (the Act), requires the Department to issue the preliminary determination in a LTFV investigation within 140 days after the date on which the Department initiated the investigation. However, section 733(c)(1) of the Act permits the Department to postpone the preliminary determination until no later than 190 days after the date on which the Department initiated the investigation if: (A) The petitioner makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

On November 8, 2017, The Timken Company (the petitioner) submitted a timely request that we postpone the preliminary determination in this LTFV investigation. In its request, the petitioner cited outstanding issues regarding affiliation and the particular market situation which affects the cost of production information, such that further supplemental questionnaires will be required to address all issues and develop the case record.² In accordance with 19 CFR 351.205(e), the petitioner has stated the reasons for requesting a postponement of the preliminary determination, and the Department finds no compelling reason to deny the request. Therefore, pursuant to section 733(c)(1)(A) of the Act, we are postponing the deadline for the preliminary determination by 50 days (i.e., 190 days after the date on which these investigations were initiated). As a result, the Department will issue its preliminary determination no later than January 24, 2018. Pursuant to section 735(a)(1) of the Act and 19 CFR 351.210(b)(1), the deadline for the final determination will continue to be 75 days after the date of the preliminary determination, unless postponed at a later date.

² See Letter from the petitioner, “Certain Tapered Roller Bearings from the Republic of Korea—Petitioner's Request for Extension of the Preliminary Determination,” (November 8, 2017).

This notice is issued and published pursuant to section 733(c)(2) of the Act and 19 CFR 351.205(f)(l).

Dated: November 15, 2017.
Gary Taverman,
Deputy Assistant Secretary for Antidumping and Countervailing Duty Operations, performing the non-exclusive functions and duties of the Assistant Secretary for Enforcement and Compliance.

[FR Doc. 2017-25173 Filed 11-20-17; 8:45 am]

BILLING CODE 3510-DS-P